DEPARTMENT OF VETERANS AFFAIRS

Advisory Committee: National Academic Affiliations Council Notice of Meeting

The Department of Veterans Affairs (VA) gives notice under the Federal Advisory Committee Act, 5 U.S.C. App. 2, that a meeting of the National Academic Affiliations Council (NAAC) will be held March 11, 2020-March 12, 2020 at the VA Conference Room 230, 2nd Floor, 810 Vermont Avenue NW, Washington, DC 20420. The meetings will be held:

Date | Time
Wednesday, March 11, 2020 | 1:00 p.m.-5:00 p.m. (EST).
Thursday, March 12, 2020 | 9:00 a.m.-5:00 p.m. (EST).

The meetings are open to the public.

The purpose of the Council is to advise the Secretary on matters affecting partnerships between VA and its academic affiliates.

On March 11, 2020 the Council will explore the VA Electronic Health Record Modernization as related to education and research, discuss VA trainee onboarding, and trainee recruitment and hiring. The Council will have open discussions and receive public comments from 4:45 p.m. to 5:00 p.m.

On March 12, 2020 the Council will have open discussion with NAAC members and receive a presentation from the Strategic Academic Advisory Council (SAAC) and an update on recent activities of the Diversity and Inclusion Subcommittee and MISSION Act (Pub. L. 115-182) provisions related to health professions education. The Council will receive a status update on Academic Partnership Councils in VA. The Council will receive public comments from 4:30 p.m. to 4:45 p.m.

Interested persons may attend and present oral statements to the Council. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting or at any time, via email to, Larissa.Emory@va.gov, or by mail to Larissa Emory PMP, CBP, MS, Designated Federal Officer, Office of Academic Affiliations (10X1), 810 Vermont Avenue NW, Washington, DC 20420. Any member of the public wishing to attend or seeking additional information should contact Ms. Emory via email or by phone at (915) 269-0465. Because the meeting will be held in a Government building, anyone attending must be prepared to submit to security screening and present a valid photo I.D. Please allow at least 20 minutes prior to the meeting for this process.

Dated: January 22, 2020.
Jelessa M. Burney,
Federal Advisory Committee Management Officer.

[FR Doc. 2020-01350 Filed 1-27-20; 8:45 am]

BILLING CODE 8320-01-P